PEACE CORPS

Privacy Act of 1974; System of Records

AGENCY: Peace Corps.

ACTION: Notice of a modified system of records.

SUMMARY: The Peace Corps Office of Inspector General is issuing public notice of its intent to amend a system of records that it maintains subject to the Privacy Act of 1974. PC-19, entitled “Office of Inspector General Investigative Records” is being amended to reflect two new routine uses for information contained in the system and to make various technical corrections and/or clarifications. The amendments also reflect the expanded authority granted to the Peace Corps Inspector General since the initial publication of PC-19.

DATES: This modified system of records is effective 30 days upon publication; however, comments on the Routine Uses will be accepted on or before February 9, 2024. The Routine Uses are effective at the close of the comment period.

ADDRESSES: Send written comments, identified by the docket number and title, to the Peace Corps, ATTN: James Olin, FOIA/Privacy Act Officer, 1275 First Street NE, Washington, DC 20526, or by email at pcfr@peacecorps.gov. Email comments must be made in text and not in attachments.

FOR FURTHER INFORMATION CONTACT: James Olin, FOIA/Privacy Act Officer, 1275 First Street NE, Washington, DC 20526; pcfr@peacecorps.gov; or 202-692-2507.

SUPPLEMENTARY INFORMATION: The Peace Corps is amending a system of records that it maintains subject to the Privacy Act of 1974 (5 U.S.C. 552a), as amended. Specifically, PC-19, entitled “Office of Inspector General Investigative Records” is being amended to reflect two new routine uses at paragraphs M and N:

“(M). Disclosure to all appropriate agencies, entities, and persons when (1) the Peace Corps suspects or has confirmed that there has been a breach of the system of records; (2) the Peace Corps has determined that as a result of the suspected or confirmed breach, there is a risk of harm to individuals, the Peace Corps (including its information systems, programs, and operations), the Federal Government, or national security; and (3) the disclosure made to such agencies, entities, and persons is reasonably necessary to assist in connection with the Peace Corps' efforts to respond to the suspected or confirmed breach or to prevent, minimize, or remedy such harm.”

“(N). Disclosure to another Federal agency or Federal entity, when the Peace Corps determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.”

The Peace Corps is also making technical amendments to references to the Inspector General Act, which has been amended and is now cited at 5 U.S.C. 401-424.

Pursuant to 5 U.S.C. 552a(j)(2), there is one substantive change being made to the exemptions promulgated for the system. The addition of this exemption is in keeping with the Inspector General's delegated law enforcement authority from the Attorney General. The added exemption also aligns with the Peace Corps' published rule, entitled, “Privacy Act Regulations,” establishing its procedures relating to access, maintenance, disclosure and amendment of records which are in a Peace Corps system of records per the Privacy Act, promulgated at 22 CFR part 308 (https://www.ecfr.gov/current/title-22/chapter-III/part-308). In accordance with 5 U.S.C. 552a(r), the Peace Corps has provided a report of this amended system of records to the Office of Management and Budget and to Congress.

SYSTEM NAME AND NUMBER:

Office of Inspector General Investigative Records, PC-19.

SECURITY CLASSIFICATION:

Unclassified.

SYSTEM LOCATION:

Office of Inspector General, Peace Corps, 1275 First Street NE, Washington, DC 20526.

SYSTEM MANAGER(S):

Inspector General, Peace Corps, 1275 First Street NE, Washington, DC 20526.

AUTHORITY FOR MAINTENANCE OF THE SYSTEM:

The Inspector General Act of 1978, as amended, 5 U.S.C. 401-424; The Peace Corps Act of 1961, as amended, 22 U.S.C. chapter 34.

PURPOSE(S) OF THE SYSTEM:

The purpose of this system is to enable the Peace Corps Office of Inspector General to carry out its responsibilities under the Inspector General Act of 1978, as amended, 5 U.S.C. 401-424, and the Peace Corps Act of 1961, as amended, including the affirmative responsibility to conduct and supervise investigations.

CATEGORIES OF INDIVIDUALS COVERED BY THE SYSTEM:

The investigative record subject, individuals who are part of an investigation of fraud, waste, or abuse concerning Peace Corps programs or operations; individuals interviewed or involved in the death of a Volunteer; current and former Peace Corps employees, Peace Corps Volunteers, Returned Peace Corps Volunteers, contractors, witnesses, complainants, informants, suspects or other persons associated with an investigation.

CATEGORIES OF RECORDS IN THE SYSTEM:

The categories of records in this system include the correspondence related to investigations; information provided by subjects, witnesses, or investigatory or law enforcement organizations; reports of investigation, including affidavits, statements, transcripts of testimony, or other documents pertinent to investigations, as well as medical and behavioral health records.

RECORD SOURCE CATEGORIES:

The information sources include Peace Corps office and program officials, employees, contractors, grantees, and other individuals or entities associated with Peace Corps; subjects of an investigation; individuals, businesses, or entities with whom the subjects are or were associated (e.g., colleagues, business associates, acquaintances, or relatives); Federal, State, local, international, and foreign investigative or law enforcement agencies; other government agencies; confidential sources; complainants; witnesses; concerned citizens; and public source materials.

ROUTINE USES OF RECORDS MAINTAINED IN THE SYSTEM, INCLUDING CATEGORIES OF USERS AND PURPOSES OF SUCH USES:

In addition to those disclosures generally permitted under 5 U.S.C. 552a(b) of the Privacy Act, the Peace Corps may disclose all or a portion of the records or information contained in this system outside of the Peace Corps without the consent of the subject individual, if the disclosure is compatible with the purpose for which the record was collected, as a routine use pursuant to 5 U.S.C. 552a(b)(3) as follows:

A. Disclosure for Law Enforcement Purposes. Information may be disclosed to the appropriate Federal, State, local, or foreign agency responsible for investigating, prosecuting, enforcing, or implementing a statute, rule, regulation, or order, if the information indicates a violation or potential violation of civil or criminal law or regulation within the jurisdiction of the receiving entity.

B. Disclosure Incident to Requesting Information. Information may be disclosed to any source from which additional information is requested (to the extent necessary to identify the individual, inform the source of the purpose(s) of the request, or to identify the type of information requested); when necessary to obtain information relevant to a Peace Corps decision concerning retention of an employee or other personnel action (other than hiring), retention of a security clearance, the letting of a contract, or the issuance or retention of a grant or other benefit.

C. Disclosure to Requesting Agency. Information may be disclosed to a Federal, State, local, or other public authority of the fact that this system of records contains information relevant to the requesting agency's retention of an employee, the retention of a security clearance, the letting of a contract, or the issuance or retention of a license, grant, or other benefit. The other agency or licensing organization may then make a request supported by the written consent of the individual for part or all of the record if it so chooses. No disclosure will be made unless the information has been determined to be sufficiently reliable to support a referral to another office within the agency or to another Federal agency for criminal, civil, administrative, personnel, or regulatory action.

D. Disclosure to Office of Management and Budget. Information may be disclosed to the Office of Management and Budget at any stage in the legislative coordination and clearance process in connection with private relief legislation as set forth in OMB Circular No. A-19.

E. Disclosure to Congressional Offices. Information may be disclosed to a congressional office from the record of an individual in response to an inquiry from the congressional office made at the request of the individual.

F. Disclosure to Department of Justice. Information may be disclosed for purposes of litigation, provided that in each case the disclosure is compatible with the purpose for which the records were collected. Disclosure for these purposes may be made to the Department of Justice, or in a proceeding before a court, adjudicative body, or other administrative body before which the Peace Corps is authorized to appear. This disclosure may be made when: 1. The Peace Corps, or any component thereof; 2. Any employee of the Peace Corps in his or her official capacity; 3. Any employee of the Peace Corps in his or her individual capacity where the Department of Justice or the Peace Corps has agreed to represent the employee; or 4. The United States (when the Peace Corps determines that litigation is likely to affect the Peace Corps or any of its components) is a party to litigation or has an interest in such litigation, and the use of such records by the Department of Justice or the Peace Corps is deemed by the Peace Corps to be relevant and necessary to the litigation.

G. Disclosure to the National Archives. Information may be disclosed to the National Archives and Records Administration in records management inspections.

H. Disclosure to Contractors, Grantees, and Others. Information may be disclosed to contractors, grantees, consultants, or Volunteers performing or working on a contract, service, grant, cooperative agreement, job, or other activity for the Peace Corps and who have a need to have access to the information in the performance of their duties or activities for the Peace Corps. When appropriate, recipients will be required to comply with the requirements of the Privacy Act of 1974 as provided in 5 U.S.C. 552a(m).

I. Disclosures for Administrative Claims, Complaints, and Appeals. Information may be disclosed to an authorized appeal grievance examiner, formal complaints examiner, equal employment opportunity investigator, arbitrator, or other person properly engaged in investigation or settlement of an administrative grievance, complaint, claim, or appeal filed by an employee, but only to the extent that the information is relevant and necessary to the proceeding, Agencies that may obtain information under this routine use include, but are not limited to: the Office of Personnel Management, Office of Special Counsel, Federal Labor Relations Authority, U.S. Equal Employment Commission, and Office of Government Ethics.

J. Disclosure to the Office of Personnel Management. Information may be disclosed to the Office of Personnel Management pursuant to that agency's responsibility for evaluation and oversight of Federal personnel management.

K. Disclosure in Connection with Litigation. Information may be disclosed in connection with litigation or settlement discussions regarding claims by or against the Peace Corps, including public filings with a court, to the extent that disclosure of the information is relevant and necessary to the litigation or discussions and except where court orders are otherwise required under Section (b)(11) of the Privacy Act of 1974, 5 U.S.C. 552a(b)(11).

L. Disclosure to U.S. Ambassadors. Information from this system of records may be disclosed to a U.S. Ambassador or his or her designee in a country where the Peace Corps serves when the information is needed to perform an official responsibility, to allow the Ambassador to knowledgeably respond to official inquiries and deal with in- country situations that are within the scope of the Ambassador's responsibility.

M. Disclosure to all appropriate agencies, entities, and persons when (1) the Peace Corps suspects or has confirmed that there has been a breach of the system of records; (2) the Peace Corps has determined that as a result of the suspected or confirmed breach, there is a risk of harm to individuals, the Peace Corps (including its information systems, programs, and operations), the Federal Government, or national security; and (3) the disclosure made to such agencies, entities, and persons is reasonably necessary to assist in connection with the Peace Corps' efforts to respond to the suspected or confirmed breach or to prevent, minimize, or remedy such harm.

N. Disclosure to another Federal agency or Federal entity, when the Peace Corps determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Additionally, records may also be disclosed to:

1. To non-governmental parties where those parties may have information the OIG seeks to obtain in connection with an investigation or inquiry.

2. To qualified individuals or organizations in connection with the performance of a peer review or other study of the OIG's audit or investigative functions.

3. To a Federal agency responsible for considering debarment or suspension action if the record would be relevant to such action.

4. To the Department of Justice for the purpose of obtaining its advice on Freedom of Information Act matters.

5. To the Office of Government Ethics (OGE) to comply with agency reporting requirements established by OGE in 5 CFR 2638.604.

6. To the Council of the Inspectors General on Integrity and Efficiency, another Federal Office of Inspector General, or other Federal law enforcement office in connection with an allegation of wrongdoing by the Inspector General or staff members of the OIG.

7. To a grand jury agent pursuant to a federal or state grand jury subpoena or in response to a prosecution request that such record or information is released for the purpose of its introduction to a grand jury.

POLICIES AND PRACTICES FOR STORAGE OF RECORDS:

Investigative Records are maintained in electronic and paper format. Electronic records are stored in computerized databases. Paper records and other media (photographs, audio recording, CDs, etc.) are stored in locked containers in a secured restricted area.

POLICIES AND PRACTICES FOR RETRIEVAL OF RECORDS:

The paper or physical case records are retrieved by case number. Electronic records may be retrieved by case number, case name, subject, cross referenced item key word search, batch retrieval applications, or by any available field or metadata element recorded in the system.

POLICIES AND PRACTICES FOR RETENTION AND DISPOSAL OF RECORDS:

Investigative records are retained, retired and destroyed in accordance with the Peace Corps' published record disposition schedule that is approved by the National Archives and Records Administration.

ADMINISTRATIVE, TECHNICAL, AND PHYSICAL SAFEGUARDS:

The Peace Corps safeguards records in this system in accordance with applicable laws, rules, and policies to protect personally identifiable information against unauthorized access or disclosure. The Peace Corps has imposed strict controls to minimize such risks. Administrative safeguards include but not limited to: access to the information in this system is limited to authorized personnel with official duties requiring access, and whose roles have been authorized with such access permissions. All such individuals receive the appropriate privacy and cybersecurity training on an annual basis.

The physical controls in place include the servers storing electronic data are located offsite in a locked facility with access limited to authorized personnel. The servers are maintained in accordance with a government contract that requires adherence to applicable laws, rules, and policies on protecting individual privacy. Computerized records are safeguarded in a secured environment. Security protocols meet the promulgating guidance as established by the National Institute of Standards and Technology (NIST) Security Standards from Access Control to Data Encryption and Security Assessment and Authorization. The paper or other physical records are kept in limited access areas during duty hours and in locked file cabinets and/or locked offices at all other times.

The technical controls in place include multiple firewalls, system access, encrypted data at rest, encrypted data in motion, periodic vulnerability scans to ensure security compliance, and security access logs. Security complies with applicable Federal Information Processing Standards (FIPS) issued by NIST. Access is restricted to specific authorized Peace Corps individuals who have internet access through work computers using a Personally Identity Verification (PIV). Individual users can only access records with the proper pre-approved accreditation.

RECORD ACCESS PROCEDURES:

Records in this system are exempt from the provisions of the Privacy Act of 1974 that permit access, correction, and notification to the extent permitted under the Privacy Act of 1974, 5 U.S.C. 552a(j)(2), (k)(2), and 22 CFR 308.14. At the Inspector General's discretion, individual requests for access and correction may be granted if it is determined that the exercise of these rights will not interfere with an interest that the exemption is intended to protect. The exemption from access is limited in some instances by law to information that would reveal the identity of a confidential source. Individuals seeking access to their records should follow the procedures in 22 CFR part 308. Individuals should address written inquiries to the OIG FOIA Officer at foia@peacecorpsoig.gov. Complete Peace Corps Privacy Act procedures are set out in 22 CFR part 308. Requesters will be required to provide adequate identification. Additional identification may be required in some instances. Requests for correction or amendment must identify the record to be changed and the corrective action sought.

CONTESTING RECORD PROCEDURES:

Requests must follow the “Records Access Procedures,” above. Clearly and concisely state what information is being contested, the reasons for contesting it, and the proposed amendment to the information sought.

NOTIFICATION PROCEDURES:

See “Record Access Procedures.”

EXEMPTIONS PROMULGATED FOR THE SYSTEM:

Pursuant to 5 U.S.C. 552a(j)(2), this system is exempt from the following provisions of the Privacy Act of 1974, subject to the limitations set forth in that subsection: 5 U.S.C. 552a(c)(3)-(4); (d); (e)(1), (e)(2), (e)(3), (e)(4)(G), (e)(4)(H), (e)(5), and (e)(8); (f); and (g). Pursuant to 5 U.S.C. 552a(k)(2), this system is exempt from the following provisions of the Privacy Act of 1974, subject to the limitations set forth in that subsection: 5 U.S.C. 552a(c)(3), (d), (e)(1), (e)(4)(G), (e)(4)(H), and (f).

HISTORY:

58 FR 39839; 65 FR 53772; 72 FR 44878.

Dated: January 5, 2024.
James Olin,
FOIA/Privacy Act Officer.

[FR Doc. 2024-00371 Filed 1-10-24; 8:45 am]

BILLING CODE 6051-01-P